DEPARTMENT OF ENERGY

[FE Docket No. 12-156-LNG]

Golden Pass Products LLC; Request for Extension of Commencement Deadline for Non-Free Trade Agreement Authorization

AGENCY: Office of Fossil Energy, DOE.

ACTION: Notice of request.

SUMMARY: The Office of Fossil Energy (FE) of the Department of Energy (DOE) gives notice (Notice) of receipt of a request (Request), filed on October 28, 2019, by Golden Pass LNG Terminal LLC (GPLNG) on behalf of Golden Pass Products LLC (GPP), which recently merged with and into GPLNG. GPP seeks to amend its existing authorization to export domestically produced liquefied natural gas (LNG) to non-free trade agreement countries, issued in DOE/FE Order No. 3978 on April 25, 2017. Specifically, GPP requests a 17-month extension to commence its export operations. GPP filed the Request under section 3 of the Natural Gas Act (NGA). Protests, motions to intervene, notices of intervention, and written comments are invited.

DATES: Protests, motions to intervene or notices of intervention, as applicable, requests for additional procedures, and written comments are to be filed using procedures detailed in the Public Comment Procedures section no later than 4:30 p.m., Eastern time, December 18, 2019.

ADDRESSES:

Electronic Filing by email, fergas@hq.doe.gov

Regular Mail, U.S. Department of Energy (FE-34), Office of Regulation, Analysis and Engagement, Office of Fossil Energy, P.O. Box 44375, Washington, DC 20026-4375

Hand Delivery or Private Delivery Services (e.g., FedEx, UPS, etc.), U.S. Department of Energy (FE-34), Office of Regulation, Analysis and Engagement, Office of Fossil Energy, Forrestal Building, Room 3E-042, 1000 Independence Avenue SW, Washington, DC 20585

FOR FURTHER INFORMATION CONTACT:

Beverly Howard or Amy Sweeney, U.S. Department of Energy (FE-34), Office of Regulation, Analysis, and Engagement, Office of Fossil Energy, Forrestal Building, Room 3E-042, 1000 Independence Avenue SW, Washington, DC 20585, (202) 586-9387; (202) 586-2627

Cassandra Bernstein, U.S. Department of Energy, Office of the Assistant General Counsel for Electricity and Fossil Energy, Forrestal Building, Room 6D-033, 1000 Independence Ave. SW, Washington, DC 20585, (202) 586-9793

SUPPLEMENTARY INFORMATION: On April 25, 2017, in Order No. 3978, DOE/FE authorized GPP to export domestically produced LNG in a volume equivalent to 808 billion cubic per year (Bcf/yr) of natural gas.¹ DOE/FE authorized GPP to export this LNG by vessel from its proposed export project to be constructed at the Golden Pass LNG Terminal, located near Sabine Pass, Texas, to any country with which the United States has not entered into a free trade agreement (FTA) requiring national treatment for trade in natural gas, and with which trade is not prohibited by U.S. law or policy (non-FTA countries) for a 20-year term. As relevant here, Order No. 3978 requires GPP to “commence export operations using the planned liquefaction facilities no later than seven years from the date of issuance of this Order”—i.e., by April 25, 2024.² In the Request, GPP asks DOE/FE to extend this “in-service” deadline by 17 months—until September 30, 2025.³

¹ Golden Pass Products LLC, DOE/FE Order No. 3978, FE Docket No. 12-156-LNG, Opinion and Order Granting Long-Term, Multi-Contract Authorization to Export Liquefied Natural Gas by Vessel from the Golden Pass LNG Terminal Located in Jefferson County, Texas, to Non-Free Trade Agreement Countries (Apr. 25, 2017), reh'g denied DOE/FE Order No. 3978-A (Mar. 30, 3018).

² See Golden Pass Products LLC, DOE/FE Order No. 3978, at 173 (Ordering Para. D); see also id. at 167 (Term and Condition Para. B).

³ Golden Pass LNG Terminal LLC, Request for Extension of Commencement Deadlines, FE Docket Nos. 12-156-LNG and 12-88-LNG (Oct. 28, 2019) [hereinafter Request] (referring to both GPP and GPLNG as “GPLNG”). The Request also applies to GPP's existing FTA order in FE Docket No. 12-88-LNG, but DOE/FE will address that portion of the Request separately pursuant to NGA section 3(c), 15 U.S.C. 717b(c).

In support of this Request, GPP identifies the actions it has taken to proceed with the construction and operation of its LNG export project under DOE/FE Order No. 3978. GPP further states that, due to the length of the various authorization processes, the resulting time necessary for it to reach final investment decision, and the time needed for construction of the export project, it is unable to complete construction and place the export facilities in service by April 25, 2024. Accordingly, GPP requests an extension of 17 months—to September 30, 2025—to place the export facilities in service and commence LNG exports. Additional details can be found in the Request, posted on the DOE/FE website at: https://www.energy.gov/sites/prod/files/2019/10/f68/FE12-88-LNG%20FE12-156-LNG%20Extension%20Request%2010-28-19%20FINAL.pdf.

DOE/FE also notes that, on July 17, 2019, GPLNG filed a “Statement of Change in Control to Reorganize and Restructure Liquefied Natural Gas Export Authorizations,” indicating that GPP had merged with and into GPLNG effective June 18, 2019. Because that filing is still pending before DOE/FE in the above-captioned docket, GPP remains the authorization holder of DOE/FE Order No. 3978 until such time as DOE/FE takes action on the filing and transfers the Order from GPP to GPLNG. Thus, for purposes of this Notice, DOE/FE construes the Request described above as being filed by GPP.

DOE/FE Evaluation

In reviewing GPP's Request, DOE will consider any issues required by law or policy. DOE will consider domestic need for the natural gas, as well as any other issues determined to be appropriate, including whether the arrangement is consistent with DOE's policy of promoting competition in the marketplace by allowing commercial parties to freely negotiate their own trade arrangements. As part of this analysis, DOE will consider the study entitled, Macroeconomic Outcomes of Market Determined Levels of U.S. LNG Exports (2018 LNG Export Study),⁴ and DOE/FE's response to public comments received on that study.⁵

⁴ See NERA Economic Consulting, Macroeconomic Outcomes of Market Determined Levels of U.S. LNG Exports (June 7, 2018), available at: https://www.energy.gov/sites/prod/files/2018/06/f52/Macroeconomic%20LNG%20Export%20Study%202018.pdf.

⁵ U.S. Dep't of Energy, Study on Macroeconomic Outcomes of LNG Exports: Response to Comments Received on Study; Notice of Response to Comments, 83 FR 67251 (Dec. 28, 2018).

Additionally, DOE will consider the following environmental documents:

• Addendum to Environmental Review Documents Concerning Exports of Natural Gas From the United States, 79 FR 48132 (Aug. 15, 2014); ⁶ and

⁶ The Addendum and related documents are available at: http://energy.gov/fe/draft-addendum-environmental-review-documents-concerning-exports-natural-gas-united-states.

• Life Cycle Greenhouse Gas Perspective on Exporting Liquefied Natural Gas From the United States, 79 FR 32260 (June 4, 2014).⁷

⁷ The Life Cycle Greenhouse Gas Report is available at: http://energy.gov/fe/life-cycle-greenhouse-gas-perspective-exporting-liquefied-natural-gas-united-states. On September 19, 2019, DOE/FE gave notice of an update to the LCA GHG Report, and that proceeding is on-going. See U.S. Dep't of Energy, Life Cycle Greenhouse Gas Perspective on Exporting Liquefied Natural Gas from the United States: 2019 Update, 84 FR 49278 (Sept. 19, 2019).

Parties that may oppose this Request should address these issues and documents in their comments and/or protests, as well as other issues deemed relevant to the Request.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable. Interested parties will be provided 15 days from the date of publication of this Notice in which to submit comments, protests, motions to intervene, or notices of intervention. DOE/FE will disregard comments or protests that do not bear directly on the Request.

Any person wishing to become a party to the proceeding must file a motion to intervene or notice of intervention. The filing of comments or a protest with respect to the Request will not serve to make the commenter or protestant a party to the proceeding, although protests and comments received from persons who are not parties will be considered in determining the appropriate action to be taken on the Request. All protests, comments, motions to intervene, or notices of intervention must meet the requirements specified by the regulations in 10 CFR part 590.

Filings may be submitted using one of the following methods: (1) Emailing the filing to fergas@hq.doe.gov, with FE Docket No. 12-156-LNG in the title line; (2) mailing an original and three paper copies of the filing to the Office of Regulation, Analysis, and Engagement at the address listed in ADDRESSES; or (3) hand delivering an original and three paper copies of the filing to the Office of Regulation, Analysis, and Engagement at the address listed in ADDRESSES. All filings must include a reference to FE Docket No. 12-156-LNG. PLEASE NOTE: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

A decisional record on the Request will be developed through responses to this notice by parties, including the parties' written comments and replies thereto. Additional procedures will be used as necessary to achieve a complete understanding of the facts and issues. If an additional procedure is scheduled, notice will be provided to all parties. If no party requests additional procedures, a final Opinion and Order may be issued based on the official record, including the Request and responses filed by parties pursuant to this notice, in accordance with 10 CFR 590.316.

The Request is available for inspection and copying in the Office of Regulation, Analysis, and Engagement docket room, Room 3E-042, 1000 Independence Avenue SW, Washington, DC 20585. The docket room is open between the hours of 8:00 a.m. and 4:30 p.m., Monday through Friday, except Federal holidays. The Request and any filed protests, motions to intervene or notice of interventions, and comments will also be available electronically by going to the following DOE/FE Web address: https://fossil.energy.gov/ng_regulation/applications-2012-goldenpassproductsllc12-156-lng.

Signed in Washington, DC, on November 26, 2019.
Amy Sweeney,
Director, Office of Regulation, Analysis, and Engagement, Office of Fossil Energy.

[FR Doc. 2019-26039 Filed 12-2-19; 8:45 am]

BILLING CODE 6450-01-P